DEPARTMENT OF TRANSPORTATION

Federal Highway Administration

[Docket No. FHWA-2024-0086]

Agency Information Collection Activities: Request for Comments for a New Information Collection

AGENCY: Federal Highway Administration (FHWA), DOT.

ACTION: Notice and request for comments.

SUMMARY: The FHWA has forwarded the information collection request described in this notice to the Office of Management and Budget (OMB) to approve a new information collection. We are required to publish this notice in the Federal Register by the Paperwork Reduction Act of 1995.

DATES: Please submit comments by January 29, 2025.

ADDRESSES: You may submit comments identified by DOT Docket ID Number 0086 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Kasandre Reeves, (564) 544-0350, Office of Highway Policy Information, Highway Funding and Motor Fuels division (HPPI-10) Federal Highway Administration, Department of Transportation, 1200 New Jersey Avenue SE, Washington, DC 20590. Monday through Friday, except Federal holidays.

SUPPLEMENTARY INFORMATION: We published a Federal Register Notice with a 60-day public comment period on this information collection on September 20, 2024, at [89 FR 77222]. There were 3 comments received and FHWA's responses are below:

One comment received was a test. The second comment received was voicing support of this product by the Bureau of Economic Analysis. The third comment was a duplicate comment submitted of this support by the Bureau of Economic Analysis.

Title: 500-Series Reporting Guidebook.

Background: A 500-Series Data Reporting Guidebook provides for the collection of information by describing policies and procedures for assembling highway related data from the existing files of State agencies. The data includes motor-vehicle registration and fees, motor-fuel use and taxation, driver licensing, and highway taxation and finance. Federal, State, and local governments use the data for transportation policy discussions and decisions. Motor-fuel data are used in attributing receipts to the Highway Trust Fund and subsequently in the apportionment formula that are used to distribute Federal-Aid Highway Funds. The data are published annually in the FHWA's Highway Statistics. Information from Highway Statistics is used in the joint FHWA and Federal Transit Administration required biennial report to Congress, Status of the Nation's Highways, Bridges, and Transit: Conditions and Performance, which contrasts present status to future investment needs.

Respondents: State and local governments of the 50 States, the District of Columbia and the Commonwealth of Puerto Rico share this burden.

Frequency: Annually.

Estimated Average Burden per Response: The burden for each form varies from 4 hours to 380 hours. The estimated average reporting burden per response for the annual collection and processing of the data is 2,462 hours for each of the States (including local governments), the District of Columbia, the Commonwealth of Puerto Rico.

Estimated Total Annual Burden Hours: The estimated total annual burden for all respondents is 29,574 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: December 23, 2024.
Jazmyne Lewis,
Information Collection Officer.

[FR Doc. 2024-31277 Filed 12-27-24; 8:45 am]

BILLING CODE 4910-22-P